DEPARTMENT OF HEALTH AND HUMAN SERVICES

Centers For Medicare & Medicaid Services

[CMS-4031-N]

Medicare Program; Open Public Meeting on January 16, 2002 to Discuss Activities Related to the Collection of Diagnostic Data from Medicare+Choice Organizations for Risk Adjustment

AGENCY: Centers for Medicare & Medicaid Services (CMS), Health and Human Services.

ACTION: Notice of meeting.

SUMMARY: This notice announces a public meeting to provide Medicare+Choice Organizations (M+COs), providers, practitioners, and other interested parties an opportunity to ask questions and raise issues regarding the risk adjustment model that will be selected for use beginning in 2004 and reporting requirements for diagnostic information. The purpose of the meeting is to provide information about risk adjustment model options and associated data collection issues and to allow for public comment regarding the models and data collection.

DATES: The meeting is scheduled for January 16, 2002 from 9 a.m. until 4 p.m., EST.

ADDRESSES: The meeting will be held in the CMS Auditorium, 7500 Security Boulevard, Baltimore, Maryland, 21244-1850.

FOR FURTHER INFORMATION CONTACT: Bobbie Knickman at (410) 786-4161. To submit public comment no later than February 1, 2002, email: Bobbie Knickman at bknickman@cms.hhs.gov or fax to (410) 786-1048.

SUPPLEMENTARY INFORMATION:

Background

The Balanced Budget Act of 1997 (BBA) (Public Law 105-33) established the Medicare+Choice program that significantly expanded the health care options available to Medicare beneficiaries. Under the BBA, the Secretary of the Department of Health and Human Services (the Secretary) must implement a risk adjustment methodology that accounts for variations in per capita costs based on health status and other demographic factors for payment to Medicare+Choice organizations (M+COs). The BBA also gives the Secretary the authority to collect inpatient hospital data for discharges on or after July 1, 1997, and additional data for other services occurring on or after July 1, 1998. Risk adjustment implementation began January 1, 2000. Payments to M+COs are made at 10 percent risk adjusted rates and 90 percent demographically adjusted rates for years 2000 through 2003. The Medicare, Medicaid, and SCHIP Benefits Improvement and Protection Act (BIPA), enacted in December 2000, stipulates that the risk adjustment methodology for 2004 and succeeding years should be based on data from inpatient hospital and ambulatory settings. BIPA contains a provision that phases in future risk adjusted payments as follows: 30 percent in 2004; 50 percent in 2005; 75 percent in 2006; and 100 percent in 2007. The collection of physician encounter data, which began on October 1, 2000, and hospital outpatient encounter data, which began on April 1, 2001, was suspended on May 25, 2001 through July 1, 2002. The Secretary indicated that we will be working closely with all interested parties to explore and implement a risk adjustment process for M+C payments that balances accuracy with administrative burden. The meeting will address the following topics:

• Risk adjustment models incorporating ambulatory and inpatient diagnoses;

• Collection/reporting of beneficiary and diagnostic information for Medicare+Choice enrollees in hospital inpatient, outpatient, and physician settings for use in risk adjustment models; and

• Data issues.

The agenda will include presentations by our staff and a question and answer sessions. Written public comments are preferred following the meeting and will be accepted until February 1, 2002.

Registration

Registration for this public meeting is required and will be on a first-come, first-serve basis, limited to two attendees per organization. A waiting list will be available for additional requests. The registration deadline will be January 11, 2002 at 5:00 pm. EST. Registration will be done via the Internet at http://www.hcfa.gov/events/events.htm. A confirmation notice will be sent to attendees upon finalization of registration.

Persons who are not registered in advance will not be permitted into the Federal Building and thus not be able to attend the meeting. Persons attending the meeting will be required to show a photographic identification, preferably a valid drivers' license before entering the building. Please note that if the meeting is cancelled we will post that information on our website.

Attendees will be provided with meeting materials at the time of the meeting. Written meeting materials will be posted on the CMS website before the January 16, 2002 meeting at: http://www.hcfa.gov and http://www.cms.hhs.gov. We will accept written questions about meeting logistics or requests for meeting materials either before the meeting or up to 14 days after the meeting. Written submissions must be sent to:

Aspen Systems Corporation, ATTN: Kim Slaughter, 2275 Research Boulevard, Mail Stop 5W, Rockville, Maryland 20850.

You may also contact Encounter Data Representative: Kim Slaughter, Telephone Number: (301) 519-5388, Fax Number: (301) 519-6360, E-mail: encounterdata@aspensys.com.

Written public comments will be accepted until February 1, 2002. Written public comments should be sent to Bobbie Knickman at bknickman@cms.hhs.gov or fax to (410) 786-1048.

(Authority: Sections 1851 through 1859 of the Social Security Act (42 U.S.C. 1395w-21 through 1395w-28))

(Catalog of Federal Domestic Assistance Program No. 93.773 Medicare—Hospital Insurance Program; and No. 93.774, Medicare—Supplementary Medical Insurance Program)

Dated: December 11, 2001.
Thomas A. Scully,
Administrator, Centers for Medicare & Medicaid Services.

[FR Doc. 01-30991 Filed 12-13-01; 8:45 am]

BILLING CODE 4120-01-P